CONSUMER PRODUCT SAFETY COMMISSION

[Docket No. CPSC-2010-0054]

Agency Information Collection Activities; Extension of Approval of Information Collection; Procedures for Export of Noncomplying Products

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for extension of approval of a collection of information relating to the procedures for the export of noncomplying products. OMB previously approved the collection of information under Control Number 3041-0003. OMB's most recent extension of approval will expire on January 31, 2024. On November 15, 2023, CPSC published a notice in the Federal Register to announce the agency's intention to seek extension of approval of the collection of information. The Commission received no comments. Therefore, by publication of this notice, the Commission announces that CPSC has submitted to the OMB a request for extension of approval of that collection of information.

DATES: Submit comments on the collection of information by February 26, 2024.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2010-0054.

FOR FURTHER INFORMATION CONTACT: Cynthia Gillham, Consumer Product Safety Commission, 4330 East West Highway, Bethesda, MD 20814; (301) 504-7791, or by email to: pra@cpsc.gov.

SUPPLEMENTARY INFORMATION: CPSC seeks to renew the following currently approved collection of information:

Title: Procedures for the Export of Noncomplying Products.

OMB Number: 3041-0003.

Type of Review: Renewal of collection.

Frequency of Response: On occasion.

Affected Public: Exporters of products that do not comply with Commission requirements.

Estimated Number of Respondents: We estimate that approximately nine notifications will be submitted by seven firms per year. These numbers are commensurate with notification rates before the COVID-19-pandemic's disruption of trade.

Estimated Time per Response: CPSC estimates that the average time for each response is one hour.

Total Estimated Annual Burden: CPSC estimates that a total of nine responses will be submitted each year, and that one hour will be required per response. As a result, CPSC estimates that the total annual burden of this collection is nine hours. The annualized cost to respondents for the information collection is $654.12 (9 hours × $72.68/hour), as estimated from total compensation data available from the U.S. Bureau of Labor Statistics.¹

¹ Total hourly compensation for workers in management professional and related occupations in goods-producing industries is estimated by the U.S. Bureau of Labor Statistics to be $72.68: Employer Costs for Employee Compensation, March 2023, Table 4: (https://www.bls.gov/news.release/archives/ecec_06162023.pdf).

General Description of Collection: The Commission has procedures that exporters must follow to notify the Commission of their intent to export products that are banned or fail to comply with an applicable CPSC safety standard, regulation, or statute. Respondents must comply with the requirements in 16 CFR part 1019 and file a statement with the Commission in accordance with these requirements.

Alberta E. Mills,
Secretary, Consumer Product Safety Commission.

[FR Doc. 2024-01371 Filed 1-24-24; 8:45 am]

BILLING CODE 6355-01-P